DEPARTMENT OF TRANSPORTATION

National Highway Traffic Safety Administration

[Docket No. NHTSA-2009-0068]

Notice of Technical Workshops and Demonstrations (One or Two Days During the Week of June 22, 2009)

AGENCY: National Highway Traffic Safety Administration (NHTSA), DOT.

ACTION: Notice of technical workshops and demonstrations.

SUMMARY: This notice announces that NHTSA will hold two compliance test program workshops to discuss and demonstrate the Office of Vehicle Safety Compliance (OVSC) Laboratory Test Procedures (TPs) for the agency's Federal motor vehicle safety standard (FMVSS) No. 216a, Roof crush resistance, and 49 CFR part 537, Automotive Fuel Economy Reports, vehicle foot print determination. Vehicle manufacturers and other interested persons who wish to participate in either of the workshops are asked to pre-register (the number of attendees may need to be limited due to space constraints) and are invited to submit test procedure related technical issues to be considered for discussion during the workshops. Attendance requires registration and is free.

Date and Time: The workshops and demonstrations for the test procedures will be held on one or two days during the week of June 22, 2009, beginning each day between 8 a.m. and 9 a.m.

ADDRESSES: The workshops and demonstrations will be held at General Testing Laboratories (GTL) in Colonial Beach, Virginia. Directions to the meeting location and final agenda will be sent to registered participants.

FOR FURTHER INFORMATION CONTACT: For registration to one or both workshops, media representatives should contact Rae Tyson at (202) 366-9550 or via e-mail at rae.tyson@dot.gov. Congressional staff should contact Will Otero at (202) 366-9263 or via e-mail at will.otero@dot.gov. All other interested parties should contact either Ms. Maritza Marshall or Ms. Elena Sonsev, contractors for the Office of Vehicle Safety Compliance, NVS-220, National Highway Traffic Safety Administration, 1200 New Jersey Avenue, SE., Washington, DC 20590, telephone (202) 366-6017 or (202) 366-9897 respectively, or via electronic mail at maritza.marshall@dot.gov or elena.sonsev@dot.gov. For technical issues relating to roof crush resistance testing, contact Mr. James Jones, at the same address, telephone (202) 366-5294, or via electronic mail at james.jones@dot.gov. For technical issues relating to vehicle footprint measurements, contact Mr. John Finneran, at the same address, telephone (202) 366-0645, or via electronic mail at john.finneran@dot.gov.

SUPPLEMENTARY INFORMATION: FMVSS No. 216a: On May 12, 2009, the agency upgraded FMVSS No. 216a, Roof Crush Resistance, as part of its comprehensive plan for reducing the serious risk of death and injury in rollover crashes. For the vehicles currently subject to the standard, passenger cars and multipurpose passenger vehicles, trucks and buses with a GVWR of 2,722 kilograms (6,000 pounds) or less, the final rule doubles the amount of force the vehicle's roof structure must withstand in the specified test, from 1.5 times the vehicle's unloaded weight to 3.0 times the vehicle's unloaded weight. The final rule also extends the applicability of the standard to vehicles up to a GVWR of 4,536 kilograms (10,000 pounds), establishing a force requirement of 1.5 times the vehicle's unloaded weight for these heavier vehicles. Vehicles must meet the specified force requirements in a two-sided test instead of a single-sided test, i.e., the same vehicle must meet the force requirements when tested first on one side and then on the other side of the vehicle. The final rule also establishes a new requirement for maintenance of headroom, i.e., survival space, in addition to the existing limit on the amount of roof crush. The final rule includes special provisions to address the needs of multi-stage manufacturers, alterers, and small volume manufacturers. NHTSA issued a TP indicating the protocol for the conduct of these tests.

49 CFR Part 537: In the effort to substantially improve Corporate Average Fuel Economy (CAFE) standards, NHTSA published a final rule on April 6, 2006, (applicable only to light trucks) and a final rule on March 30, 2009, (applicable to passenger cars and light trucks). The revised CAFE requirements specify that vehicle manufacturers must begin to derive target average fuel economy standards for each vehicle model type based upon the vehicle attribute known as, “footprint.” Footprint is defined as the product of the vehicle measurements for wheelbase and average track width. In the notices, NHTSA also required that vehicle manufacturers report wheelbase, track width and footprint measurements for each vehicle configuration in their annual CAFE reports starting in model year (MY) 2008 for light trucks and MY 2011 for passenger cars.

To validate manufacturer's reported vehicle wheelbase, track width and footprint information, NHTSA issued a TP indicating the methods that will be used to physically measure these corresponding dimensions.

Workshops: To enable interested parties and NHTSA personnel to discuss the questions concerning TP-216a and TP-537, NHTSA believes that it would be desirable to hold two technical workshops and demonstrations on these test procedures. The scope of these workshops is strictly limited to issues surrounding implementation of OVSC Laboratory Test Procedure TP-216a and TP-537. TP-216a and 537 are posted on the NHTSA Web site at http://www.dot.gov (under “Test Procedures” on the “Vehicles and Equipment” page).

Agenda for the workshops and demonstrations: The workshops will be held one or two days during the week of June 22, 2009. The agenda includes technical discussions about the execution of the compliance tests, lunch (to be paid for by each participant), and physical test demonstrations. The following is a preliminary agenda for the workshops.

FMVSS No. 216a Workshop and Demonstration

I. Check-In

II. Welcome and Introductory Remarks

III. FMVSS No. 216a Final Rule Highlights

IV. OVSC Test Procedure TP-216a Content

V. Discussion of Technical Issues With Test Procedure

VI. Physical Demonstration of Roof Crush Test

VII. Questions & Answers

Part 537 Workshop and Demonstration

I. Check-In

II. Welcome and Introductory Remarks

III. CAFE Program Highlights

IV. OVSC Test Procedure TP-537 Content

V. Discussion of Technical Issues With Test Procedure

VI. Physical Demonstration of Foot Print Determination

VII. Questions & Answers

Submission of Agenda Items: Written suggestions regarding test procedure technical issues to be included in the agenda(s) should be submitted to the address below and must be received by the agency on or before June 8, 2009. You may submit comments identified by DOT DMS Docket Number NHTSA 2009-0068 by any of the following methods:

• Web site: http://www.regulations.gov. Follow the instructions for submitting comments on the DOT electronic docket site.

• Fax: 1-202-493-2251.

• Mail: Docket Management Facility; U.S. Department of Transportation, 1200 New Jersey Ave., SE., West Building, Room W12-140, Washington, DC 20590-0001.

• Hand Delivery: Room W12-140 on the Ground Level of the West Building, 1200 New Jersey Ave., SE., Washington, DC, between 9 a.m. and 5 p.m., Monday through Friday, except Federal holidays.

• Federal eRulemaking Portal: http://www.regulations.gov. Follow the Online instructions for submitting comments.

Instructions: All submissions must include the agency name and docket number for this technical workshop notice. Note that all comments received will be posted without change to http://www.regulations.gov, including any personal information provided.

Docket: For access to the docket to read comments received, go to http://www.regulations.gov at any time or to Room W12-140 on the ground level of the West Building, 1200 New Jersey Ave., SE., Washington, DC, between 9 a.m. and 5 p.m., Monday through Friday, except Federal holidays.

To Register for this Workshop: Each person wishing to participate in one or both of the workshops must register with NHTSA by June 8, 2009. You can register by contacting Mr. Rae Tyson (for media representatives), Will Otero (for Congressional members), Ms. Maritza Marshall or Ms. Elena Sonsev (for all other interested parties) on or before June 8, 2009; contact information for Mr. Rae Tyson, Mr. Otero, Ms. Marshall and Ms. Sonsev is listed above. To register, you must provide NHTSA with the name, title, organizational affiliation (if applicable), contact information (mailing address, phone numbers (Voice and fax), and email address), and specify if available lunch will be purchased. Food options on site are limited. Participants may purchase lunch in cash upon check-in each day. Ms. Marshall or Ms. Sonsev will have information about the lunch options and associated costs at time of registration. Due to space limitations, NHTSA may have to limit the number of participants per organization.

You will be contacted only if this meeting is postponed or cancelled.

Issued: May 15, 2009.
Harry Thompson,
Acting Director, Office of Vehicle Safety Compliance.

[FR Doc. E9-11839 Filed 5-20-09; 8:45 am]

BILLING CODE 4910-59-P